INTERNATIONAL TRADE COMMISSION

[Investigations Nos. 701-TA-414 and 731-TA-928 (Final)]

Softwood Lumber From Canada

Determinations

On the basis of the record ¹ developed in the subject investigations, the United States International Trade Commission determines, ² pursuant to sections 705(b) and 735(b) of the Tariff Act of 1930 (19 U.S.C. 1671d(b) and 1673d(b)) (the Act), that an industry in the United States is threatened with material injury by reason of imports from Canada of softwood lumber, provided for in subheadings 4407.10.00, 4409.10.10, 4409.10.20, and 4409.10.90 of the Harmonized Tariff Schedule of the United States, that have been found by the Department of Commerce to be subsidized by the Government of Canada and sold in the United States at less than fair value (LTFV). The Commission further determines that it would not have found material injury but for the suspension of liquidation.

¹ The record is defined in § 207.2(f) of the Commission's Rules of Practice and Procedure (19 CFR 207.2(f)).

² Commissioner Bragg not participating.

Background

The Commission instituted these investigations effective April 2, 2001, following receipt of a petition filed with the Commission and Commerce by the Coalition for Fair Lumber Imports Executive Committee,³ Washington, DC; the United Brotherhood of Carpenters and Joiners, Portland, OR; and the Paper, Allied-Industrial, Chemical and Energy Workers International Union, Nashville, TN. The final phase of these investigations was scheduled by the Commission following notification of preliminary determinations by Commerce that imports of softwood lumber from Canada were being subsidized within the meaning of section 703(b) of the Act (19 U.S.C. 1671b(b)) and sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of November 26, 2001 (66 FR 59027). The hearing was held in Washington, DC, on March 26, 2002, and all persons who requested the opportunity were permitted to appear in person or by counsel.

³ The Coalition for Fair Lumber Imports Executive Committee is comprised of Hood Industries, International Paper Co., Moose River Lumber Co., New South, Inc., Plum Creek Timber Co., Potlatch Corp., Seneca Sawmill Co., Shearer Lumber Products, Shuqualak Lumber Co., Sierra Pacific Industries, Swift Lumber, Inc., Temple-Inland Forest Products, and Tolleson Lumber Co., Inc.

The Commission transmitted its determinations in these investigations to the Secretary of Commerce on May 16, 2002. The views of the Commission are contained in USITC Publication 3509 (May 2002), entitled Softwood Lumber from Canada: Investigations Nos. 701-TA-414 and 731-TA-928 (Final).

Issued: May 16, 2002.
By order of the Commission.
Marilyn R. Abbott,
Secretary.

[FR Doc. 02-12788 Filed 5-21-02; 8:45 am]

BILLING CODE 7020-20-P